DEPARTMENT OF AGRICULTURE

Submission for OMB Review; Comment Request

September 18, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation Of Animal & Poultry, Animal/Poultry Products, Certain Animal Embryos, Semen, And Zoological Animals.

OMB Control Number: 0579-0040.

Summary of Collection: Title 21 U.S.C. 117, Animal Industry Act of 1884, authorizes the Secretary to prevent, control and eliminate domestic diseases such as brucellosis and tuberculosis, as well as to take actions to prevent and to manage exotic diseases such as foot-and-mouth disease and rinderpest. To fulfill this mission the Animal and Plant Health Inspection Service (APHIS) collects pertinent information from those individuals who import animals and poultry, animal and poultry products, zoological animals, or animal germplasm into the United States. APHIS will collect information using several forms.

Need and Use of the Information: APHIS will collect information on the origin of the animal or product to be imported, the health status of the animal to be imported and whether the animal or product was temporarily offloaded in another country during its journey to the United States. This vital information helps APHIS to ensure that these imports do not introduce exotic animal diseases into the United States. If the information was not collected it would cripple or destroy APHIS ability to protect the United States form exotic animal disease incursions.

Description of Respondents: Business or other for-profit; Farms; Individuals or households; Federal Government; State, Local or Tribal Government.

Number of Respondents: 77,976.

Frequency of Responses: Recordkeeping; Reporting: On occasion.

Total Burden Hours: 326,125.

Animal and Plant Health Inspection Service

Title: Communicable Diseases in Horses.

OMB Control Number: 0579-0127.

Summary of Collection: Title 21, U.S.C. 117 Animal Industry Act of 1884 authorizes the Secretary to prevent, control and eliminate domestic diseases such as equine infectious anemia, as well as to take action to prevent and to manage exotic diseases such as contagious equine metritis and other foreign animal diseases. The Animal and Plant Health Inspection Service (APHIS) regulates the importation and interstate movement of animals and animal products, and conducts various other activities to protect the health of the nation's livestock and poultry. The regulations in 9 CFR 75.4 govern the interstate movement of equines that have tested positive to an official test for EIA and provide for the approval of laboratories, diagnostic facilities, and research facilities.

Need and Use of the Information: The information collected from forms, APHIS VS 10-11, Equine Infectious Anemia Laboratory Test, 10-12, Equine Infectious Anemia Supplemental Investigation and 1-27, Permit for the Movement of Restricted Animals, will be used to prevent the spread of equine infectious anemia. Regulations require the use of an official EIA test, a certificate for the interstate movement of an EIA reactor, and proper identification of the reactor, as well as recordkeeping by accredited and State veterinarians; laboratory, diagnostic, and research facility personnel; and stockyard personnel. Without the information it would be impossible for APHIS to effectively regulate the interstate movement of horses infected with EIA.

Description of Respondents: Farms; Business Or Other For-Profit; State, Local And Tribal Government.

Number of Respondents: 10,000.

Frequency of Responses: Recordkeeping; Reporting: On Occasion.

Total Burden Hours: 174,330.

Ruth Brown,
Departmental Information Collection Clearance Officer.

[FR Doc. E7-18662 Filed 9-20-07; 8:45 am]

BILLING CODE 3410-34-P